FEDERAL COMMUNICATIONS COMMISSION

Sunshine Act Meeting Schedule Change; Open Commission Meeting, April 25, 2007

April 25, 2007.

The Federal Communications Commission previously announced its intention to hold an Open Meeting on Wednesday, April 25, 2007 at 9:30 a.m. The meeting has been postponed until 6:45 p.m. The prompt and orderly conduct of the Commission's business requires this change and no earlier announcement was practicable.

Federal Communications Commission.
Marlene H. Dortch,
Secretary.

Editorial Note: This document was received at the Office of the Federal Register on April 26, 2007.

[FR Doc. 07-2119 Filed 4-26-07; 12:47 pm]

BILLING CODE 6712-01-P